DEPARTMENT OF DEFENSE

Department of the Navy

[Docket ID: USN-2021-HQ-0003]

Submission for OMB Review; Comment Request

AGENCY: United States Marine Corps, Department of Defense (DoD).

ACTION: Information collection notice.

SUMMARY: Consistent with the Paperwork Reduction Act of 1995 and its implementing regulations, this document provides notice DoD is submitting an Information Collection Request to the Office of Management and Budget (OMB) to collect information on active duty and reserve Marines to inform COVID-19 vaccine distribution and education efforts. DoD requests emergency processing and OMB authorization to collect the information after publication of this Notice for a period of six months.

DATES: Comments must be received by May 14, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function.

Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The results of the USMC COVID-19 Vaccine Survey will provide leadership with an understanding of Marines' propensity to take the COVID-19 vaccine and other related factors. COVID-19 vaccine distribution has begun in the Marine Corps as per the DoD vaccination schedule. Because the vaccine has been authorized under a EUA vice full approval, the vaccine is being offered voluntarily. This survey is being conducted in order to better understand why active duty and reserve Marines choose to get the vaccine or not as well as identify any generalized misunderstandings or misinformation Marines may have about the vaccines. The data will enable the Marine Corps' Communication Directorate, COVID-19 Cell, and Health Services to address inaccurate information so Marines can make an informed choices about the vaccine. This exemption will allow the survey to be fielded as soon as possible so the results can inform strategic messaging efforts by late spring 2021.

Title; Associated Form; and OMB Number: COVID-19 Vaccine Survey; 0703-CNVS.

Type of Request: New.

Number of Respondents: 9,000.

Responses per Respondent: 1.

Annual Responses: 9,000.

Average Burden per Response: 5 minutes.

Annual Burden Hours: 750.

Affected Public: Individuals and households.

Frequency: Once.

Respondent's Obligation: Voluntary.

Request for Comments

Comments are invited on: (1) Whether the proposed collection of information is necessary for the proper performance of the functions of DOD, including whether the information collected has practical utility; (2) the accuracy of DOD's estimate of the burden (including hours and cost) of the proposed collection of information; (3) ways to enhance the quality, utility, and clarity of the information to be collected; and (4) ways to minimize the burden of the collection of information on respondents, including automated collection techniques or the use of other forms of information technology.

Dated: April 26, 2021.
Kayyonne T. Marston,
Alternate OSD Federal Register Liaison Officer, Department of Defense.

[FR Doc. 2021-08983 Filed 4-28-21; 8:45 am]

BILLING CODE 5001-06-P